DEPARTMENT OF TRANSPORTATION

Federal Aviation Administration

14 CFR Part 25

[Docket No.: FAA-2013-0142; Notice No. 25-139]

RIN 2120-AK12

Harmonization of Airworthiness Standards—Gust and Maneuver Load Requirements

Correction

In proposed rule document 2013-12445 appearing on pages 31851-31860 in the issue of Tuesday, May 28, 2013, make the following corrections:

§ 25.341 [Corrected]

1. On page 31858, in § 25.341, in the second column, in the twelfth line from the bottom, “Uσρεϕ” should read “Uσref”.

2. On the same page, in the same section, in the same column, in the same line, “Uσ” should read “Uσ”.

3. On the same page, in the same section, in the same column, in the tenth and third lines from the bottom, “Uσ” should read “Uσ”.

[FR Doc. C1-2013-12445 Filed 6-21-13; 8:45 am]

BILLING CODE 1505-01-D